FEDERAL COMMUNICATIONS COMMISSION

Notice of Public Information Collection(s) Being Reviewed by the Federal Communications Commission, Comments Requested

October 24, 2003.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 5, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0095.

Title: Cable Television Annual Employment Report, FCC Form 395-A.

Type of Review: Revision of currently approved collection.

Form Number: FCC 395-A.

Respondents: Business or other for-profit entities.

Number of Respondents: 1,950.

Estimated Time per Response: 0.166 to 2.417 hrs.

Frequency of Response: Recordkeeping; Annual and five year reporting requirements.

Total Annual Burden: 3,128 hours.

Total Annual Cost: None.

Needs and Uses: Following the D.C. Circuit's decision in MD/DC/DE Broadcasters Association v. FCC (“Association”) in January 2001, vacating the FCC's broadcast EEO rules for recruitment, on January 31, 2001, the Commission suspended its EEO program requirements for both broadcasters and Multichannel Video Programming Distributors (MVPD's), including the requirement to file FCC Forms 395-A. and 395-M. The FCC is now revising Form 395-A, Annual Employment Report, to incorporate FCC Form 395-M. The new FCC Form 395-A is a data collection device used to report industry trends. The report identifies employees by gender, race, and ethnicity in fifteen job categories. The FCC Form 395-A contains a grid which collects data on full and part-time employees and requests a list of employees by job title, indicating the job category and full or part-time status of the position. However, Form 395-A omits the old EEO program report section, which is now in the new FCC Form 396-C, OMB Control No. 3060-1033.

OMB Control Number: 3060-0390.

Title: Broadcast Station Annual Employment Report, FCC Form 395-B.

Form Number: FCC Form 395-B.

Type of Review: Revision of currently approved collection.

Respondents: Business or other for-profit entities; Not-for-profit institutions.

Number of Respondents: 14,000.

Estimated Time per Response: 0.88 hours.

Frequency of Response: Annual reporting requirement.

Total Annual Burden: 12,320 hours.

Total Annual Costs: None.

Needs and Uses: FCC Form 395-B is used to compile statistics on the workforce employed by broadcast licensees/permitees. It is filed by all AM, FM, TV, international and low power TV broadcast licensees/permittees that employ five or more full-time employees. The FCC staff use the data to compile a report showing the five-year employment trends in the broadcast industry.

OMB Control Number: 3060-1034.

Title: Digital Audio Broadcasting Systems and Their Impact on the Terrestrial Radio Broadcast Service Broadcast Station Annual Employment Report.

Form Number: N/A.

Type of Review: Extension of currently approved collection.

Respondents: Business or other for-profit entities.

Number of Respondents: 200.

Estimated Time per Response: 2.0 hours.

Frequency of Response: One time reporting requirement.

Total Annual Burden: 400 hours.

Total Annual Costs: None.

Needs and Uses: In October 2002, the Commission released the First Report and Order (“Order”), Digital Audio Broadcasting Systems and Their Impact on the Terrestrial Radio Broadcast Service, FCC 02-286, MM Docket 99-325, (67 FR 78193). Pursuant to this Order, the Commission selected in-band, on-channel (IBOC) as the technology that permits AM and FM radio broadcasters to introduce digital operations efficiently and rapidly. In addition, provisions of the Order required radio station licensees to provide information relative to implementation of interim hybrid digital operations. Implementation of hybrid digital operations is entirely voluntary. Commercial and noncommercial AM and FM radio stations that choose to begin hybrid digital transmissions shall notify the Commission within 10 days of the commencement of digital operations. The notification letter shall certify that the digital operations conform to applicable rule and standards. Furthermore, implementation of the notification letter eliminates both the need for the FCC staff to issue an STA to the broadcaster and for the broadcaster to file and pay the initial and any subsequent filing fees.

Federal Communications Commission.
Marlene H. Dortch,
Secretary.

[FR Doc. 03-27734 Filed 11-4-03; 8:45 am]

BILLING CODE 6712-01-P